DEPARTMENT OF HEALTH AND HUMAN SERVICES

Centers for Disease Control and Prevention

[30 Day 10-0222]

Agency Forms Undergoing Paperwork Reduction Act Review; Proposed Data Collections Submitted for Public Comment and Recommendations; Correction

AGENCY: Centers for Disease Control and Prevention.

ACTION: Notice; correction.

SUMMARY: The Centers for Disease Control and Prevention published a document in the Federal Register of January 22, 2010, concerning request for comments on specifications for Questionnaire Design Research Laboratory (QDRL) 2010-2012. The document contained incorrect burden table.

FOR FURTHER INFORMATION CONTACT: Maryam Daneshvar, 404-639-4604; E-mail: Maryam.Daneshvar@cdc.hhs.gov.

Correction

In the Federal Register of January 22, 2010, in FR Doc, 2010-1166, on page 3737, correct the “Annualized Burden Table” caption to read:

Estimated Annualized Burden Table
Projects | Number of participants | Number of responses per participant | Average hours per response
QDRL Interviews:
1) NCHS Surveys | 120 | 1 | 1.25
2) Other questionnaire testing | 120 | 1 | 1.25
3) Research on the effects of alternative questionnaire design | 500 | 1 | 18/60
4) General Methodological Research | 60 | 1 | 1.25
Focus Groups (5 groups of 10) | 50 | 1 | 1.5

Dated: January 22, 2010.
Maryam I. Daneshvar,
Acting Reports Clearance Officer, Centers for Disease Control and Prevention.

[FR Doc. 2010-1717 Filed 1-27-10; 8:45 am]

BILLING CODE 4163-18-P